DEPARTMENT OF HEALTH AND HUMAN SERVICES

Centers for Disease Control and Prevention

[30Day-23-22CB]

Agency Forms Undergoing Paperwork Reduction Act Review

In accordance with the Paperwork Reduction Act of 1995, the Centers for Disease Control and Prevention (CDC) has submitted the information collection request titled “Assessment for the Get Ahead of Sepsis (GAOS) Consumer and Healthcare Professional Campaign” to the Office of Management and Budget (OMB) for review and approval. CDC previously published a “Proposed Data Collection Submitted for Public Comment and Recommendations” notice on January 31, 2022, to obtain comments from the public and affected agencies. CDC received two comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Assessment for the Get Ahead of Sepsis (GAOS) Consumer and Healthcare Professional Campaign—New—National Center for Emerging and Zoonotic Infectious Diseases (NCEZID), Centers for Disease Control and Prevention (CDC).

Background and Brief Description

Sepsis is a life threating emergency, and it is the body's overactive and toxic response to an infection. Each year 1.7 million adults in the United States develop sepsis, with 270,000 fatalities. Sepsis is the leading cause of death in hospitals and one out of three hospital fatalities are due to sepsis infection. Sepsis management in U.S. hospitals is the highest when compared to inpatient cost for all other medical conditions. Annual costs are estimated to be over $62 billion.

In media and public health campaigns, antimicrobial resistance and sepsis are rarely presented together which does not make their linkage apparent. It has been concluded that sepsis and antimicrobial stewardship should not be discussed in isolation. Surprisingly, 24% of adults in the U.S. have never heard of sepsis, so this presents a unique opportunity for future messaging campaigns.

The goals of the Get Ahead of Sepsis (GAOS) educational campaign are to prevent and reduce infections that lead to sepsis and to optimize healthcare quality and patient safety by raising awareness, knowledge, and motivating behavior change related to sepsis prevention, early recognition, and appropriate treatment among consumer and healthcare professional (HCP) audiences. A panel survey will be utilized to recruit participants. Surveys will be distributed to consumer audiences and HCPs both before and after the media campaign and partner outreach.

Consumer audiences include:

(1) Cancer patients and their caregivers,

(2) Patients who survived severe COVID-19 or sepsis and their caregivers,

(3) Parents of children 12 and younger,

(4) Adults who care for a family member age 65+, (5) Men aged 65+ with one or more chronic conditions, and (6) Healthy adults 65+

HCP audiences include:

(1) Emergency Medical Services personnel,

(2) Nurse Practitioners and Physician Assistants who work at urgent care clinics,

(3) Emergency Department triage nurses,

(4) General medical ward staff,

(5) Primary care physicians,

(6) Long-term care (LTC) nurses, and

(7) LTC medical technicians and sitters.

This program evaluation will assist CDC in determining if the GAOS media campaign, along with partner outreach, was successful in raising knowledge and awareness and motivating behavior change among consumer and HCP audiences in select markets. The information gathered from this evaluation will also be used to inform refinement and implementation of the campaign (materials and tactics).

CDC requests OMB approval for an estimated 1366 annual burden hours. There is no cost to respondents other than their time to participate.

Estimated Annualized Burden Hours
Type of respondents | Form name | Number of respondents | Number of responses per respondent | Average burden per response (in hours)
Consumers | GAOS Consumer Pre-Campaign web survey | 945 | 1 | 20/60
Consumers | GAOS Consumer Post-Campaign web survey | 945 | 1 | 20/60
HCPs | GAOS HCP Pre-Campaign web survey | 1103 | 1 | 20/60
HCPs | GAOS HCP Post-Campaign web survey | 1103 | 1 | 20/60

Jeffrey M. Zirger,
Lead, Information Collection Review Office, Office of Scientific Integrity, Office of Science, Centers for Disease Control and Prevention.

[FR Doc. 2022-26305 Filed 12-1-22; 8:45 am]

BILLING CODE 4163-18-P